ENVIRONMENTAL PROTECTION AGENCY

40 CFR Part 52

[EPA-R05-OAR-2019-0267; FRL-9998-45-Region 5]

Air Plan Approval; Indiana; Limited Maintenance Plan for 1997 Ozone NAAQS; Evansville, Fort Wayne, Greene County, Jackson County, Muncie, and Terre Haute

AGENCY: Environmental Protection Agency (EPA).

ACTION: Proposed rule.

SUMMARY: The Environmental Protection Agency (EPA) is proposing to approve a submission from the State of Indiana as a state implementation plan (SIP) revision in according with the Clean Air Act (CAA). On April 25, 2019, the state submitted its 1997 8-hour ozone national ambient air quality standards (NAAQS or standard) Limited Maintenance Plan (LMP) for the following Indiana areas:] Evansville, Fort Wayne, Greene County, Jackson County, Muncie, and Terre Haute. EPA is proposing to approve the LMPs for these areas because they provide for the maintenance of the 1997 8-hour ozone NAAQS through the end of the second 10-year portion of the maintenance period. The effect of this action would be to make federally enforceable certain commitments related to maintenance of the 1997 8-hour ozone NAAQS in these areas as part of the Indiana SIP.

DATES: Comments must be received on or before September 18, 2019.

ADDRESSES: Submit your comments, identified by Docket ID No. EPA-R05-OAR-2019-0267 at http://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Michael Leslie, Environmental Engineer, Control Strategies Section, Air Programs Branch (AR-18J), Environmental Protection Agency, Region 5, 77 West Jackson Boulevard, Chicago, Illinois 60604, (312) 353-6680, leslie.michael@epa.gov.

SUPPLEMENTARY INFORMATION: Throughout this document, the terms “we”, “us”, and “our” refer to EPA.

Table of Contents

I. What action is EPA taking?

II. What is the background for these actions?

III. What is EPA's Evaluation of Indiana's SIP Submittals?

1. Attainment Emissions Inventory

2. Maintenance Demonstration

3. Monitoring Network and Verification of Continued Attainment

4. Contingency Plan

IV. Transportation Conformity

V. Proposed Action

VI. Statutory and Executive Order Reviews

I. What action is EPA taking?

Under the CAA, EPA is proposing to approve the 1997 8-hour ozone NAAQS LMPs for the following Indiana areas: Evansville, Fort Wayne, Greene County, Jackson County, Muncie, and Terre Haute. Indiana submitted the LMPs on April 25, 2019.

These LMPs for the 1997 8-hour ozone NAAQS submitted by Indiana are designed to maintain the 1997 8-hour ozone NAAQS through the end of the second 10-year period beyond redesignation. We are proposing to approve these LMPs because they meet all applicable requirements under CAA sections 110 and 175A.

II. What is the background for these actions?

Ground-level ozone is formed when oxides of nitrogen (NOX) and volatile organic compounds (VOC) react in the presence of sunlight. These two pollutants, referred to as ozone precursors, are emitted by many types of pollution sources, including on-road and off-road motor vehicles and engines, power plants and industrial facilities, and smaller area sources such as lawn and garden equipment and paints. Scientific evidence indicates that adverse public health effects occur following exposure to ozone, particularly in children and adults with lung disease. Breathing air containing ozone can reduce lung function and inflame airways, which can increase respiratory symptoms and aggravate asthma or other lung diseases.

Ozone exposure also has been associated with increased susceptibility to respiratory infections, medication use, doctor visits, and emergency department visits and hospital admissions for individuals with lung disease. Ozone exposure also increases the risk of premature death from heart or lung disease. Children are at increased risk from exposure to ozone because their lungs are still developing, and they are more likely to be active outdoors, which increases their exposure.¹

¹ See “Fact Sheet, Proposal to Revise the National Ambient Air Quality Standards for Ozone,” January 6, 2010 and 75 FR 2938 (January 19, 2010).

In 1979, under section 109 of the CAA, EPA established primary and secondary NAAQS for ozone at 0.12 parts per million (ppm), averaged over a 1-hour period. 44 FR 8202 (February 8, 1979). On July 18, 1997, EPA revised the primary and secondary NAAQS for ozone to set the acceptable level of ozone in the ambient air at 0.08 ppm, averaged over an 8-hour period. 62 FR 38856 (July 18, 1997).² EPA set the 1997 8-hour ozone NAAQS based on scientific evidence demonstrating that ozone causes adverse health effects at lower concentrations and over longer periods of time than was understood when the pre-existing 1-hour ozone NAAQS was set. EPA determined that the 1997 8-hour standard would be more protective of human health, especially for children and adults who are active outdoors, and individuals with a preexisting respiratory disease, such as asthma.

² In March 2008, EPA completed another review of the primary and secondary ozone standards and tightened them further by lowering the level for both to 0.075 ppm. 73 FR 16436 (March 27, 2008). Additionally, in October 2015, EPA completed a review of the primary and secondary ozone standards and tightened them by lowering the level for both to 0.70 ppm. 80 FR 65292 (October 26, 2015).

Following promulgation of a new or revised NAAQS, EPA is required by the CAA to designate areas throughout the nation as attaining or not attaining the NAAQS. On April 15, 2004, EPA designated the six Indiana areas as nonattainment for the 1997 8-hour ozone NAAQS, and the designations became effective on June 15, 2004. Under the CAA, states are also required to adopt and submit SIPs to implement, maintain, and enforce the NAAQS in designated nonattainment areas and throughout the state.

When a nonattainment area has three years of complete, certified air quality data that has been determined to attain the 1997 8-hour ozone NAAQS, and the area has met other required criteria described in section 107(d)(3)(E) of the CAA, the state can submit to EPA a request to be redesignated to attainment, referred to as a “maintenance area”.³ These six Indiana areas have been redesignated to attainment of the 1997 8-hour ozone NAAQS (70 FR 77026, 72 FR 1292, 70 FR 69085, 70 FR 69085, 70 FR 69443, 71 FR 541). One of the criteria for redesignation is to have an approved maintenance plan under CAA section 175A. The maintenance plan must demonstrate that the area will continue to maintain the standard for the period extending ten years after redesignation and contain such additional measures as necessary to ensure maintenance and such contingency provisions as necessary to assure that violations of the standard will be promptly corrected. At the end of the eighth year after the effective date of the redesignation, the state must also submit a second maintenance plan to ensure ongoing maintenance of the standard for an additional ten years. See CAA section 175A.

³ Section 107(d)(3)(E) of the CAA sets out the requirements for redesignation. They include attainment of the NAAQS, full approval under section 110(k) of the applicable SIP, determination that improvement in air quality is a result of permanent and enforceable reductions in emissions, demonstration that the state has met all applicable section 110 and part D requirements, and a fully approved maintenance plan under CAA section 175A.

EPA has published long-standing guidance for states on developing maintenance plans. EPA's guidance entitled, “Procedures for Processing Requests to Redesignate Areas to Attainment,” September 4, 1992 (Calcagni memo) provides that states may generally demonstrate maintenance by either performing air quality modeling to show that the future mix of sources and emission rates will not cause a violation of the NAAQS or by showing that future emissions of a pollutant and its precursors will not exceed the level of emissions during a year when the area was attaining the NAAQS (i.e., attainment year inventory). See Calcagni memo at 9. EPA clarified in three subsequent guidance memos that certain nonattainment areas could meet the CAA section 175A requirement to provide for maintenance by demonstrating that the area's design value ⁴ was well below the NAAQS and that the historical stability of the area's air quality levels showed that the area was unlikely to violate the NAAQS in the future.⁵ EPA refers to this streamlined demonstration of maintenance as an LMP. EPA has interpreted CAA section 175A as permitting this option because section 175A of the CAA defines few specific content requirements for maintenance plans, and in EPA's experience implementing the various NAAQS, areas that qualify for an LMP and have approved LMPs have rarely, if ever, experienced subsequent violations of the NAAQS. As noted in the LMP guidance memoranda, states seeking an LMP must still submit the other maintenance plan elements outlined in the Calcagni memo, including: An attainment emissions inventory, provisions for the continued operation of the ambient air quality monitoring network, verification of continued attainment, and a contingency plan in the event of a future violation of the NAAQS. Moreover, states seeking an LMP must still submit its section 175A maintenance plan as a revision to its SIP, with all attendant notice and comment procedures.

⁴ The ozone design value for a monitoring site is the 3-year average of the annual fourth-highest daily maximum 8-hour average ozone concentrations. The design value for an ozone nonattainment area is the highest design value of any monitoring site in the area.

⁵ See “Limited Maintenance Plan Option for Nonclassifiable Ozone Nonattainment Areas” from Sally L. Shaver, Office of Air Quality Planning and Standards (OAQPS), dated November 16, 1994; “Limited Maintenance Plan Option for Nonclassifiable CO Nonattainment Areas” from Joseph Paisie, OAQPS, dated October 6, 1995; and “Limited Maintenance Plan Option for Moderate PM10 Nonattainment Areas” from Lydia Wegman, OAQPS, dated August 9, 2001.

While the LMP guidance memoranda were originally written with respect to certain NAAQS,⁶ EPA has extended the LMP interpretation of section 175A to other NAAQS and pollutants not specifically covered by the previous guidance memos.⁷ In this case, EPA is proposing to approve the Indiana LMPs, because the state has made a showing, consistent with EPA's prior LMP guidance, that each of the six Indiana area's ozone concentrations are well below the 1997 8-hour ozone NAAQS and have been historically stable. Indiana has submitted LMPs for the Evansville, Fort Wayne, Greene County, Jackson County, Muncie, and Terre Haute, Indiana areas' 1997 8-hour ozone NAAQS maintenance area to fulfill the second maintenance plan requirement in the CAA. Our evaluation of these 1997 8-hour ozone NAAQS LMPs is presented below.

⁶ The prior memos addressed: Unclassifiable areas under the 1-hour ozone NAAQS, nonattainment areas for the PM10 (particulate matter with an aerodynamic diameter less than 10 microns) NAAQS, and nonattainment areas for the carbon monoxide NAAQS.

⁷ See, e.g., 79 FR 41900 (July 18, 2014) (Approval of second ten-year LMP for Grant County 1971 SO2 maintenance area).

Under CAA section 175A(b), states must submit a revision to the first maintenance plan eight years after redesignation to provide for maintenance of the NAAQS for ten additional years following the end of the first 10-year period. EPA's final implementation rule for the 2008 8-hour ozone NAAQS revoked the 1997 8-hour ozone NAAQS and stated that one consequence of revocation was that areas that had been redesignated to attainment (i.e., maintenance areas) for the 1997 8-hour ozone standard no longer needed to submit second 10-year maintenance plans under CAA section 175A(b).⁸ In South Coast Air Quality Management District v. EPA, the D.C. Circuit vacated EPA's interpretation that, because of the revocation of the 1997 8-hour ozone standard, second maintenance plans were not required for “orphan maintenance areas,” i.e., areas that had been redesignated to attainment for the 1997 8-hour ozone NAAQS maintenance areas and were designated attainment for the 2008 8-hour ozone NAAQS. South Coast, 882 F.3d 1138 (D.C. Cir. 2018). Thus, states with these “orphan maintenance areas” under the 1997 8-hour ozone NAAQS must submit maintenance plans for the second maintenance period. Accordingly, on April 25, 2019, Indiana submitted a second maintenance plan in the form of an LMP for the following Indiana areas: Evansville, Fort Wayne, Greene County, Jackson County, Muncie, and Terre Haute. These LMPs show that each area is expected to remain in attainment of the 1997 8-hour ozone NAAQS through the end of the last year of the second 10-year maintenance period, i.e., through the end of the full 20-year maintenance period.

⁸ See 80 FR 12315 (March 6, 2015).

III. What is EPA's evaluation of Indiana's SIP submittals?

EPA has reviewed the 1997 8-hour ozone NAAQS LMPs which are designed to maintain the 1997 8-hour ozone NAAQS within the Evansville, Fort Wayne, Greene County, Jackson County, Muncie, and Terre Haute, Indiana areas through the end of the 20-year period beyond redesignation, as required under CAA section 175A(b). The following is a summary of EPA's interpretation of the requirements ⁹ and EPA's evaluation of how each requirement is met.

⁹ See Calcagni memo.

1. Attainment Emissions Inventory

For maintenance plans, a state should develop a comprehensive, accurate inventory of actual emissions for an attainment year to identify the level of emissions which is sufficient to maintain the NAAQS. A state should develop this inventory consistent with EPA's most recent guidance on emissions inventory development. For ozone, the inventory should be based on typical ozone season workday of VOCs and NOX, as these pollutants are precursors to ozone formation. The Indiana LMP's ozone attainment inventories reflect typical summer weekday emissions in 2014. Table 1 through 7 present a summary of the inventories for 2014 contained in the maintenance plans.

Table 1—2014 Typical Summer Day 8-Hour Ozone Emissions for the Evansville, Indiana Area
[Tons/day]
Source category | VOC emissions | NOX emissions
Nonpoint | 10.57 | 2.99
Nonroad | 2.83 | 3.03
Onroad | 6.93 | 11.73
Point | 3.66 | 34.68

Table 2—2014 Typical Summer Day 8-Hour Ozone Emissions for the Fort Wayne, Indiana Area
[Tons/day]
Source category | VOC emissions | NOX emissions
Nonpoint | 15.67 | 2.94
Nonroad | 5.76 | 5.38
Onroad | 10.57 | 21.48
Point | 5.67 | 6.05

Table 3—2014 Typical Summer Day 8-Hour Ozone Emissions for the Greene County, Indiana Area
[Tons/day]
Source category | VOC emissions | NOX emissions
Nonpoint | 3.26 | 0.90
Nonroad | 0.61 | 0.67
Onroad | 1.23 | 2.20
Point | 0.06 | 0.07

Table 4—2014 Typical Summer Day 8-Hour Ozone Emissions for the Jackson County, Indiana Area
[Tons/day]
Source category | VOC emissions | NOX emissions
Nonpoint | 2.59 | 0.25
Nonroad | 1.05 | 1.13
Onroad | 1.73 | 4.78
Point | 1.38 | 1.01

Table 5—2014 Typical Summer Day 8-Hour Ozone Emissions for the Jackson County, Indiana Area
[Tons/day]
Source category | VOC emissions | NOX emissions
Nonpoint | 2.59 | 0.25
Nonroad | 1.05 | 1.13
Onroad | 1.73 | 4.78
Point | 1.38 | 1.01

Table 6—2014 Typical Summer Day 8-Hour Ozone Emissions for the Muncie, Indiana Area
[Tons/day]
Source category | VOC emissions | NOX emissions
Nonpoint | 5.21 | 1.56
Nonroad | 1.26 | 1.62
Onroad | 3.48 | 8.32
Point | 0.02 | 0.36

Table 7—2014 Typical Summer Day 8-Hour Ozone Emissions for the Terre Haute, Indiana Area
[Tons/day]
Source category | VOC emissions | NOX emissions
Nonpoint | 5.40 | 1.76
Nonroad | 1.64 | 1.37
Onroad | 3.23 | 6.06
Point | 1.70 | 10.44

Indiana used 2014 summer day emissions from EPA 2014 version 7.0 modeling platform as the basis for the attainment inventory. These data are based on the most recently available National Emissions Inventory (2014 NEI version 2).

Based on our review of the methods, models, and assumptions used by Indiana to develop the VOC and NOX estimates, we propose to find that the Indiana 1997 8-hour ozone NAAQS LMP areas include a comprehensive, reasonably accurate inventory of actual ozone precursor emissions in attainment year 2014, and propose to conclude that the plan's inventory is acceptable for the purposes of a subsequent maintenance plan under CAA section 175A(b).

2. Maintenance Demonstration

The maintenance plan demonstration requirement is considered to be satisfied in a LMP if the state can provide sufficient information indicating that air quality in the area is well below the level of the standard, that past air quality trends have been shown to be stable, and that the probability of the area experiencing a violation over the second 10-year maintenance period is low.¹⁰ These criteria are evaluated below with regard to the Indiana areas.

¹⁰ “Limited Maintenance Plan Option for Nonclassifiable Ozone Nonattainment Areas” from Sally L. Shaver, Office of Air Quality Planning and Standards (OAQPS), dated November 16, 1994; “Limited Maintenance Plan Option for Nonclassifiable CO Nonattainment Areas” from Joseph Paisie, OAQPS, dated October 6, 1995; and “Limited Maintenance Plan Option for Moderate PM10 Nonattainment Areas” from Lydia Wegman, OAQPS, dated August 9, 2001.

a. Evaluation of ozone air quality levels.

To attain the 1997 8-hour ozone NAAQS, the three-year average of the fourth-highest daily maximum 8-hour average ozone concentrations (design value) at each monitor within an area must not exceed 0.08 ppm. Based on the rounding convention described in 40 CFR part 50, appendix I, the standard is attained if the design value is 0.084 ppm or below. Consistent with prior guidance, EPA believes that if the most recent air quality design value for the area is at a level that is well below the NAAQS (e.g., below 85% of the standard, or in this case below 0.071 ppm), then EPA considers the state to have met the section 175A requirement for a demonstration that the area will maintain the NAAQS for the requisite period. Such a demonstration assumes continued applicability of prevention of significant deterioration requirements and any control measures already in the SIP, and that Federal measures will remain in place through the end of the second 10-year maintenance period.

Table 8 presents the design values for each monitor in the Indiana areas over the 2016-2018 period. These monitoring sites have recorded levels well below the level of the 1997 8-hour ozone NAAQS over the entire first 10-year maintenance period. As shown below, the most current design values continue to be below the level of 85% of the NAAQS, consistent with prior LMP guidance.

Table 8—1997 8-Hour Ozone NAAQS Design Values
[Parts per million]
Area | County | AQS site ID | Design value (DV) 2016-2018 | DV <0.071 ppb eligible LMP
Evansville | Vanderburgh | 181630013 | 0.068 | Yes.
| Vanderburgh | 181630021 | 0.068 | Yes.
| Warrick | 181730008 | 0.069 | Yes.
| Warrick | 181730011 | 0.068 | Yes.
Fort Wayne | Allen | 180030002 | 0.067 | Yes.
| Allen | 180030004 | 0.066 | Yes.
Greene County | Greene | 180550001 | 0.067 | Yes.
Jackson County | Jackson | 180710001 | 0.066 | Yes.
Muncie | Delaware | 180350010 | 0.066 | Yes.
Terre Haute | Vigo | 181670018 | 0.068 | Yes.
| Vigo | 181670024 | 0.067 | Yes.

Therefore, the Evansville, Fort Wayne, Greene County, Jackson County, Muncie, and Terre Haute, Indiana areas are eligible for the LMP option, and we propose to find that the long record of monitored ozone concentrations that attain the NAAQS, together with the continuation of existing VOC and NOX emissions control programs, adequately provide for the maintenance of the 1997 8-hour ozone NAAQS in the Indiana areas through the second 10-year maintenance period and beyond.

Additional supporting information that these areas are expected to continue to maintain the standard can be found in EPA modeling projections of future year design values. This modeling was completed to assist states with development of interstate transport SIPs for the 2015 8-hour ozone NAAQS. Those projections, made for the year 2023, show that the highest design value for these areas occurs in the Greene County area and is expected to be 0.064 ppm, which is well below the 1997 8-hour ozone NAAQS.

3. Monitoring Network and Verification of Continued Attainment

EPA periodically reviews the ozone monitoring network that Indiana operates and maintains, in accordance with 40 CFR part 58. This network is consistent with the ambient air monitoring network assessment and plan developed by Indiana that is submitted annually to EPA and that follows a public notification and review process. EPA has reviewed and approved the Indiana's 2019 Ambient Air Monitoring Network Assessment and Plan. Indiana has committed to continue to maintain a network in accordance with EPA requirements.

4. Contingency Plan

The contingency plan provisions are designed to promptly correct or prevent a violation of the NAAQS that might occur after redesignation of an area to attainment. Section 175A of the CAA requires that a maintenance plan include such contingency measures as EPA deems necessary to assure that the state will promptly correct a violation of the NAAQS that occurs after redesignation. The maintenance plan should identify the contingency measures to be adopted, a schedule and procedure for adoption and implementation of the contingency measures, and a time limit for action by the state. The state should also identify specific indicators to be used to determine when the contingency measures need to be adopted and implemented. The maintenance plan must include a requirement that the state will implement all pollution control measures that were contained in the SIP before redesignation of the area to attainment. See section 175A(d) of the CAA.

Indiana's contingency plan defines a warning level and action level response. A warning level shall be prompted whenever an annual average fourth high monitored value of 0.089 ppm occurs in a single ozone season, or a two-year average fourth high monitored value of 0.085 ppm or greater occurs within the maintenance area. The action level response shall be prompted whenever a three-year average fourth high monitored value of 85 ppb or greater occurs within the maintenance area. In the event that the action level is triggered and is not due to an exceptional event, malfunction, or noncompliance with a permit condition or rule requirement, Indiana will determine additional control measures needed to assure future attainment of NAAQS for ozone. In this case, measures that can be implemented in a short time will be selected in order to be in place within 18 months from the close of the ozone season that prompted the action level.

Contingency measures to be considered will be selected from a comprehensive list of measures deemed appropriate and effective at the time the selection is made. Listed below are example measures that may be considered. The selection of measures will be based upon cost-effectiveness, emission reduction potential, economic and social considerations or other factors that Indiana deems appropriate. Indiana will solicit input from all interested and affected persons in the maintenance area prior to selecting appropriate contingency measures. The listed contingency measures are potentially effective or proven methods of obtaining significant reductions of ozone precursor emissions. Because it is not possible at this time to determine what control measure will be appropriate at an unspecified time in the future, the list of contingency measures outlined below is not comprehensive. Indiana anticipates that only a few of these measures will be required.

(1) A lower-Reid vapor pressure gasoline program.

(2) Broader geographic applicability of existing measures.

(3) A tightening of reasonably available control technology (RACT) on existing sources covered by EPA Control Technique Guidelines issued in response to the 1990 CAA Amendments.

(4) The application of RACT to smaller existing sources.

(5) A vehicle inspection/maintenance program.

(6) One or more transportation control measures sufficient to achieve at least 0.5% reduction in actual area wide VOC emissions. Transportation measures will be selected from the following, based upon the factors listed above after consultation with affected local governments:

(a) Trip reduction programs, including, but not limited to, employer-based transportation management plans, area wide rideshare programs, work schedule changes, and telecommuting.

(b) Transit improvements.

(c) Traffic flow improvements.

(d) Other new or innovative transportation measures not yet in widespread use that affects state and local governments deemed appropriate.

(7) Alternative fuel and diesel retrofit programs for fleet vehicle operations.

(8) Controls on consumer products consistent with those adopted elsewhere in the United States.

(9) The requirement of VOC or NOX emission offsets for new and modified major sources.

(10) The requirement of VOC or NOX emission offsets for new and modified minor sources.

EPA finds that Indiana's contingency measures, as well as the commitment to continue implementing any SIP requirements, satisfy the pertinent requirements of section 175A.

IV. Transportation Conformity

Transportation conformity is required by section 176(c) of the CAA. Conformity to a SIP means that transportation activities will not produce new air quality violations, worsen existing violations, or delay timely attainment of the NAAQS (CAA 176(c)(1)(B)). EPA's conformity rule at 40 CFR part 93 requires that transportation plans, programs and projects conform to SIPs and establish the criteria and procedures for determining whether or not they conform. The conformity rule generally requires a demonstration that emissions from the Regional Transportation Plan (RTP) and the Transportation Improvement Program (TIP) are consistent with the motor vehicle emissions budget (MVEB) contained in the control strategy SIP revision or maintenance plan (40 CFR 93.101, 93.118, and 93.124). A MVEB is defined as “that portion of the total allowable emissions defined in the submitted or approved control strategy implementation plan revision or maintenance plan for a certain date for the purpose of meeting reasonable further progress milestones or demonstrating attainment or maintenance of the NAAQS, for any criteria pollutant or its precursors, allocated to highway and transit vehicle use and emissions (40 CFR 93.101).

Under the conformity rule, LMP areas may demonstrate conformity without a regional emission analysis (40 CFR 93.109(e)).

However, because LMP areas are still maintenance areas, certain aspects of transportation conformity determinations still will be required for transportation plans, programs and projects. Specifically, for such determinations, RTPs, TIPs and transportation projects still will have to demonstrate that they are fiscally constrained (40 CFR 93.108), meet the criteria for consultation (40 CFR 93.105) and Transportation Control Measure implementation in the conformity rule provisions (40 CFR 93.112 and 40 CFR 93.113, respectively). Additionally, conformity determinations for RTPs and TIPs must be determined no less frequently than every four years, and conformity of plan and TIP amendments and transportation projects is demonstrated in accordance with the timing requirements specified in 40 CFR 93.104. In addition, for projects to be approved they must come from a currently conforming RTP and TIP (40 CFR 93.114 and 93.115).

V. Proposed Action

Under section 175A of the CAA and for the reasons set forth above, EPA is proposing to approve the LMPs for the Evansville, Fort Wayne, Greene County, Jackson County, Muncie, and Terre Haute, Indiana areas for the 1997 8-hour ozone NAAQS. These plans were submitted by Indiana on April 25, 2019, as a revision to the Indiana SIP. We believe the 1997 8-hour ozone NAAQS LMPs are sufficient to provide for maintenance of the 1997 8-hour ozone NAAQS in these areas over the second maintenance period.

VI. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because it is not a significant regulatory action under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address disproportionate human health or environmental effects with practical, appropriate, and legally permissible methods under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen oxides, Ozone, Volatile organic compounds.

Dated: August 6, 2019.
Cathy Stepp,
Regional Administrator, Region 5.

[FR Doc. 2019-17665 Filed 8-16-19; 8:45 am]

BILLING CODE 6560-50-P